DEPARTMENT OF COMMERCE

Foreign-Trade Zones Board

[B-30-2025]

Foreign-Trade Zone (FTZ) 40, Notification of Proposed Production Activity; Air Venturi, Ltd.; Air Guns and Pressure Tanks; Solon, Ohio

The Cleveland Cuyahoga County Port Authority, grantee of FTZ 40, submitted a notification of proposed production activity to the FTZ Board (the Board) on behalf of Air Venturi, Ltd. (Air Venturi) for Air Venturi's facility in Solon, Ohio, within Subzone 40N. The notification conforming to the requirements of the Board's regulations (15 CFR 400.22) was received on June 11, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: o-ring seal kits; air gun parts kitted together; adapters to connect air sources and guns; aluminum high pressure air tanks to refill air guns; air pistols; air rifles; archery arrows; air gun shotshells; air gun targets; and, high-pressure portable compressors (duty rate ranges from duty-free to 5%).

The proposed foreign-status materials/components include: rubber o-rings; spring washers; steel washers; flexible, plastic-reinforced hoses with a minimum burst pressure of 27.6 MPa; rigid, ethylene polymer-reinforced hoses; male or female quick disconnect adapters to allow connecting hoses to an air tank, compressor, or air gun; valves for fiber tanks; air gun parts and components; air pistol or air rifle stocks; arrow shafts; arrow fletchings; air gun targets and components; scopes, red dot sights, and lasers; aluminum fiber-wrapped tanks for air storage; low-power compressor motors; high-power compressor motors; single-phase motors; compressor components; nuts and screws; metal clips and pins; valve parts; valves to regulate air flow; safety valves to prevent over-pressurization; copper alloy pipe sleeves; aluminum alloy pipes; leaf springs; high-pressure rods; electric connectors; pressure gauges; thermometers; rubber compressor feet; ceramic balls; bushings; bearings; plastic handles; power supplies; and, electric switches (duty rate ranges from duty-free to 14.9%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is July 28, 2025.

A copy of the notification will be available for public inspection in the “Online FTZ Information System” section of the Board's website.

For further information, contact Luke Engan at Luke.Engan@trade.gov.

Dated: June 13, 2025.
Elizabeth Whiteman,
Executive Secretary.

[FR Doc. 2025-11174 Filed 6-17-25; 8:45 am]

BILLING CODE 3510-DS-P